DEPARTMENT OF COMMERCE

International Trade Administration

[A-583-849, A-552-812]

Steel Wire Garment Hangers From Taiwan and Vietnam: Continuation of Antidumping Duty Orders

AGENCY: Enforcement and Compliance, International Trade Administration, Department of Commerce.

SUMMARY: As a result of the determinations by the Department of Commerce (Commerce) and the International Trade Commission (ITC) that revocation of the antidumping duty orders on steel wire garment hangers (hangers) from Taiwan and Vietnam would likely lead to a continuation or recurrence of dumping and material injury to an industry in the United States, Commerce is publishing a notice of continuation of the antidumping duty orders.

DATES: Applicable May 31, 2018.

FOR FURTHER INFORMATION CONTACT: Ian Hamilton, AD/CVD Operations, Office V, Enforcement and Compliance, International Trade Administration, U.S. Department of Commerce, 1401 Constitution Avenue NW, Washington, DC 20230; telephone: (202) 482-4798.

SUPPLEMENTARY INFORMATION:

Background

On December 10, 2012, Commerce published in the Federal Register notice of the antidumping duty order on hangers from Taiwan.¹ On February 5, 2013, Commerce published the antidumping duty order on hangers from Vietnam.² On November 1, 2017, Commerce published the notice of initiation of the first five-year (sunset) reviews of the antidumping duty orders on hangers from Taiwan and Vietnam, pursuant to section 751(c) of the Tariff Act of 1930, as amended (the Act).³

¹ See Steel Wire Garment Hangers from Taiwan, 77 FR 72424 (December 10, 2012).

² See Steel Wire Garment Hangers from the Socialist Republic of Vietnam: Antidumping Duty Order, 78 FR 8105 (February 5, 2013).

³ See Initiation of Five-Year (Sunset) Reviews, 82 FR 50612 (November 1, 2017).

Commerce exercised its discretion to toll all deadlines affected by the closure of the Federal Government from January 20 through 22, 2018. As a result, the revised deadline for the final results of this sunset review was March 5, 2018.⁴

⁴ See Memorandum for The Record from Christian Marsh, Deputy Assistant Secretary for Enforcement and Compliance, performing the non-exclusive functions and duties of the Assistant Secretary for Enforcement and Compliance, “Deadlines Affected by the Shutdown of the Federal Government,” dated January 23, 2018. All deadlines in this segment of the proceeding have been extended by 3 days.

Commerce conducted this sunset review on an expedited basis, pursuant to section 751(c)(3)(B) of the Act and 19 CFR 351.218(e)(1)(ii)(C)(2), because it received a complete, timely, and adequate response from a domestic interested party but no substantive responses from respondent interested parties. As a result of its review, Commerce determined that revocation of the antidumping duty orders would likely lead to a continuation or recurrence of dumping.⁵ Commerce, therefore, notified the ITC of the magnitude of the margins likely to prevail should the antidumping duty orders be revoked. On May 22, 2018, the ITC published notice of its determination, pursuant to section 751(c) of the Act, that revocation of the antidumping duty orders on hangers from Taiwan and Vietnam would likely lead to a continuation or recurrence of material injury to an industry in the United States within a reasonably foreseeable time.⁶

⁵ See Steel Wire Garment Hangers from Taiwan and Vietnam: Final Results of the Expedited First Sunset Reviews of the Antidumping Duty Orders, 83 FR 10433 (March 9, 2018) (Final Results) and accompanying Issues and Decision Memorandum, dated March 5, 2017.

⁶ See Steel Wire Garment Hangers from Taiwan and Vietnam, Investigation Nos. 701-TA-487 and 731-TA-1197-1198 (Review), USITC Publication 4784 (May 2018); see also Steel Wire Garment Hangers from Taiwan and Vietnam, 83 FR 23723 (May 22, 2018).

Scope of the Orders

The merchandise subject to the orders is hangers. For a complete description of the scope of these orders, see the Issues and Decision Memorandum.⁷

⁷ For a full description of the scope of orders, see Final Results and accompanying Issues and Decision Memorandum.

Continuation of the Orders

As a result of the determinations by Commerce and the ITC that revocation of the antidumping duty orders would likely lead to a continuation or recurrence of dumping and material injury to an industry in the United States, pursuant to section 751(d)(2) of the Act and 19 CFR 351.218(a), Commerce hereby orders the continuation of the antidumping duty orders on hangers from Taiwan and Vietnam. U.S. Customs and Border Protection will continue to collect antidumping duty cash deposits at the rates in effect at the time of entry for all imports of subject merchandise.

The applicability date of the continuation of the orders will be the date of publication in the Federal Register of this notice of continuation. Pursuant to section 751(c)(2) of the Act, Commerce intends to initiate the next sunset review of the orders not later than 30 days prior to the fifth anniversary of the applicability date of continuation.

This sunset review and this notice are in accordance with section 751(c) of the Act and published pursuant to section 777(i)(1) of the Act and 19 CFR 351.218(f)(4).

Dated: May 23, 2018.
Gary Taverman,
Deputy Assistant Secretary for Antidumping and Countervailing Duty Operations, performing the non-exclusive functions and duties of Assistant Secretary for Enforcement and Compliance.

[FR Doc. 2018-11541 Filed 5-30-18; 8:45 am]

BILLING CODE 3510-DS-P